FEDERAL COMMUNICATIONS COMMISSION

47 CFR Part 73

[DA 05-2695; MB Docket No.05-138, RM-11162, RM-11266*]

Radio Broadcasting Service; Cameron and Hackberry, LA

AGENCY: Federal Communications Commission.

ACTION: Final rule.

SUMMARY: The Audio Division, at the request of Charles Crawford, allots Channel 296C3 at Cameron, Louisiana, as the community's first local service, and dismisses a counterproposal filed by Pittman Broadcasting Services, LLC to allot Channel 296A at Hackberry, Louisiana. See 70 FR 19397, published April 13, 2005. See also Public Notice, Report No. 2723, RM-11266*, issued July 29, 2005. Channel 296C3 can be allotted to Cameron in compliance with the Commission's minimum distance separation requirements. The reference coordinates for Channel 296C3 at Cameron are 29-47-48 North Latitude and 93-19-30 West Longitude. A filing window for Channel 296C3 at Cameron, Louisiana will not be opened at this time. Instead, the issue of opening a filing window for this channel will be addressed by the Commission in a subsequent order.

DATES: Effective November 28, 2005.

ADDRESSES: Federal Communications Commission, 445 Twelfth Street, SW., Washington, DC 20554.

FOR FURTHER INFORMATION CONTACT: Helen McLean, Media Bureau, (202) 418-2738.

SUPPLEMENTARY INFORMATION: This is a synopsis of the Commission's Report and Order, MB Docket No. 05-138, adopted October 12, 2005, and released October 14, 2005. The full text of this Commission decision is available for inspection and copying during regular business hours at the FCC's Reference Information Center, Portals II, 445 Twelfth Street, SW., Room CY-A257, Washington, DC 20554. The complete text of this decision may also be purchased from the Commission's duplicating contractor, Best Copy and Printing, Inc., 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

For the reasons set forth in the preamble, part 73 is amended as follows:

PART 73—RADIO BROADCAST SERVICES

1. The authority citation for part 73 continues to read as follows:

Authority: 47 U.S.C. 154, 303, 334 and 336.

§ 73.202 [Amended]

2. Section 73.202(b), the Table of FM Allotments under Louisiana, is amended by adding Cameron, Channel 296C3.

Federal Communications Commission.
John A. Karousos,
Assistant Chief, Audio Division, Media Bureau.

[FR Doc. 05-21547 Filed 11-1-05; 8:45 am]

BILLING CODE 6712-01-P